DEPARTMENT OF JUSTICE

Notice of Lodging of Consent Decree Pursuant to the Clean Air Act

Notice is hereby given that on April 19, 2011, a proposed Consent Decree in United States et al. v. Terra Industries Inc. et al., Civ. A. No. 5:11-cv-04038 was lodged with the United States Court for the Northern District of Iowa.

In this action, the United States and Co-Plaintiff States of Iowa, Mississippi and Oklahoma, sought the penalties and injunctive relief for violations of the Clean Air Act (“CAA”) by Terra Industries Inc. (“Terra Industries”), Terra International (Oklahoma) Inc. (“Terra Oklahoma”), Terra Nitrogen, Limited Partnership (“Terra Nitrogen”), Port Neal Corporation (“Port Neal”), and Terra Mississippi Nitrogen, Inc. (“Terra Mississippi”), (collectively “Defendants” or “Terra”). Defendants are the owners and operators of nine nitric acid plants in the States of Iowa, Mississippi and Oklahoma. The Complaint alleged violations of: (1) The Prevention of Significant Deterioration of Air Quality provisions (“PSD”), Part C of Title I, at §§ 160-169B of the CAA, 42 U.S.C. 7470-7492 and corollary State Implementation Plans (“SIPs”); (2) the New Source Performance Standards for Nitric Acid Plants (“NSPS”) promulgated pursuant to Section 111(b) of the CAA, 42 U.S.C. 7411(b) and codified at 40 CFR part 60, Subpart G; and (3) the Title V Permit Program Sections 502 and 503 of the CAA, 42 U.S.C. 7661a through 7661f, and corollary state provisions.

Pursuant to the proposed Consent Decree, Defendants will pay to the United States and State Co-Plaintiffs a civil penalty of $625,000 and implement injunctive relief at all nine of their nitric acid plants.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Terra Industries Inc. et al., Civ. A. No. 5:11-cv-04038 (Northern District of Iowa), Department of Justice Case Number 90-5-2-1-2062/1.

During the public comment period, the Consent Decree may be examined at the Office of the United States Attorney, Northern District of Iowa, Hach Building Suite 400, 401 First St. SE, Cedar Rapids, IA 52401-1825. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.50 (25 cents per page reproduction cost) payable to the U.S. Treasury.

Maureen Katz,
Assistant Section Chief.

[FR Doc. 2011-9876 Filed 4-22-11; 8:45 am]

BILLING CODE 4410-15-P